DEPARTMENT OF LABOR

Employment and Training Administration

[TA-W-52,736]

Lala Ellen Knitting, Fort Payne, AL; Notice of Termination of Investigation

Pursuant to section 221 of the Trade Act of 1974, as amended, an investigation was initiated on September 3, 2003, in response to a petition filed by a company official on behalf of workers at Lala Ellen Knitting, Fort Payne, Alabama.

The petitioning worker group is covered by an earlier petition filed on August 21, 2003 (TA-W-52,564), that is the subject of an ongoing investigation for which a determination has not yet been issued. Further investigation in this case would duplicate efforts and serve no purpose; therefore the investigation under this petition has been terminated.

Signed at Washington, DC, this 5th day of September, 2003.
Richard Church,
Certifying Officer, Division of Trade Adjustment Assistance.

[FR Doc. 03-27575 Filed 10-31-03; 8:45 am]

BILLING CODE 4510-30-P